DEPARTMENT OF ENERGY

Federal Energy Regulatory Commission

[Docket No. CP01-407-000]

Ozark Gas Transmission, L.L.C.; Notice of Application

August 9, 2001.

Take notice that on July 18, 2001, Ozark Gas Transmission, L.L.C. (Ozark) filed an abbreviated application pursuant to Section 7(c) of the Natural Gas Act (NGA) for issuance to Ozark of a certificate of public convenience and necessity authorizing Ozark to offer new storage and no-notice services to be supported by pipeline capacity leased, and storage services purchased, from Transok, LLC (Transok). Ozark further seeks Commission approval to charge market-based rates for the new firm storage service it proposes to offer and incorporate into its proposed no-notice service, and for the new interruptible storage services it proposes to offer.

Ozark is an interstate pipeline providing service in Oklahoma, Arkansas, and Missouri. Transok is an intrastate pipeline that provides natural gas transportation and storage service under Section 311 of the Natural Gas Policy Act of 1978.

Ozark requests a certificate of public convenience and necessity pursuant to Section 7(c) of the NGA authorizing it to lease capacity on portions of Transok's pipeline system for transportation of natural gas between the Greasy Creek Storage Facility in Hughes County, Oklahoma, and the interconnection between Transok's and Ozark's pipeline systems in Latimer County, Oklahoma. Ozark proposes to use the leased pipeline capacity and firm storage service Ozark proposes to acquire from Transok to offer new Firm Storage Service and No-Notice Service, as well as a new Interruptible Storage Service. Ozark also is filing for authorization to charge market-based rates for the proposed Firm Storage Service, the storage service component of its proposed No-Notice Service, and for Interruptible Storage Service, based on Transok's existing authorization to charge market-based rates for firm and interruptible storage services it offers under Section 311.

Ozark submits that the lease of pipeline capacity is necessary for the new No-Notice, Firm Storage and Interruptible Storage Services that it plans to offer. It further states that its proposal does not require the construction of new facilities, and will not impose any adverse rate impacts on any existing customers.

Any person desiring to be heard or to make any protest with reference to said application should on or before August 30, 2001, file with the Federal Energy Regulatory Commission, 888 First Street, N.E., Washington, D.C. 20426, a motion to intervene or a protest in accordance with the requirements of the Commission's Rules of Practice and Procedure (18 C.F.R. 385.214 or 385.211) and the Regulations under the Natural Gas Act (18 C.F.R. 157.10). All protests filed with the Commission will be considered by it in determining the appropriate action to be taken but will not serve to make the protestants parties to the proceeding. Any person wishing to become a party to a proceeding or to participate as a party in any hearing therein must file a motion to intervene in accordance with the Commission's Rules.

Take further notice that, pursuant to the authority contained in and subject to jurisdiction conferred upon the Federal Energy Regulatory Commission by Sections 7 and 15 of the Natural Gas Act and the Commission's Rules, a hearing will be held without further notice before the Commission or its designee on this application if no motion to intervene is filed within the time required herein, if the Commission on its own review of the matter finds that a grant of the certificate is required by the public convenience and necessity. If a motion for leave to intervene is timely filed, or if the Commission on its own motion believes that a formal hearing is required, further notice of such hearing will be duly given.

Under the procedure herein provided for, unless otherwise advised, it will be unnecessary for Ozark to appear or to be represented at the hearing.

Linwood A. Watson, Jr.,
Acting Secretary.

[FR Doc. 01-20455 Filed 8-14-01; 8:45 am]

BILLING CODE 6717-01-P